ENVIRONMENTAL PROTECTION AGENCY

[FRL-7966-9]

Notice of Availability of Final NPDES General Permits MAG910000 and NHG910000 for Discharges From Groundwater Remediation, Contaminated Construction De-Watering, and Miscellaneous Surface Water Discharge Activities in the States of Massachusetts and New Hampshire and Indian Country Lands in the State of Massachusetts: The Remediation General Permit (RGP)

AGENCY: Environmental Protection Agency (EPA).

ACTION: Notice of availability of final NPDES general permits MAG910000 and NHG910000: The Remediation General Permit (RGP).

SUMMARY: The Director of the Office of Ecosystem Protection at the Environmental Protection Agency's New England Regional Office (EPA-NE), is issuing National Pollutant Discharge Elimination System (NPDES) general permits to cover discharges of contaminated ground and surface waters in Massachusetts (MA), New Hampshire (NH), as well as in Indian Country lands located in MA, to surface receiving waters (waters of the United States) related to the following: groundwater remediation activities; construction projects where chemical contamination is present in the water; well development or rehabilitation and aquifer pump testing at formerly contaminated sites; clean-up of industrial sumps; hydrostatic testing of pipelines and tanks; and short-term testing at dredging projects not covered by a permit issued by the Army Corps of Engineers.

The purpose of this document is to inform the public that the new general permit in Massachusetts and New Hampshire, known as the Remediation General Permit (RGP), is now available. The Notice of Availability for the draft RGP was published in the Federal Register on November 2, 2004 (69 FR 63531). In response to a number of requests, on December 8, 2004, EPA-NE extended the comment period from December 17, 2004, to January 18, 2005.

During the public comment period, EPA-NE received 18 sets of comments regarding the RGP. EPA-NE prepared a response-to-comments document and made a number of corresponding changes to the RGP, including, but not limited to: removing utility vaults and manholes from the applicability, allowing the use of historic data in certain circumstances, expanding the period of intermittent shutdowns from 90 to 120 days, etc. The response-to-comments document is available with the final general permit.

The final RGP establishes notification requirements, effluent limitations, monitoring requirements, and administrative requirements, as well as other standards, conditions, prohibitions, and management practices for discharges to both fresh and marine waters. The RGP does not cover new sources as defined under 40 CFR 122.2. Also, the final RGP does not cover discharges from utility vaults and manholes, as proposed. Rather, EPA plans to develop a separate general permit for that discharge category.

DATES: The general permit shall be effective September 9, 2005. See the general permit for specific application deadlines.

FOR FURTHER INFORMATION CONTACT: Additional information concerning the final permit may be obtained between the hours of 8 a.m. and 4 p.m., Monday through Friday, excluding holidays, from: (1) Steven Rapp (617-918-1551) or Roger Janson (617-918-1621), Office of Ecosystem Protection, EPA-NE, 1 Congress St., Suite 1100 (mail code: CMP), Boston, MA 02114-2023; e-mail: Rapp.Steve@epa.gov or Janson.Roger@epa.gov; (2) Mr. Paul Hogan or Ms. Kathleen. Keohane, NPDES Permit Unit, MA DEP, 627 Main Street, Worcester, MA 01608; e-mail: Paul.Hogan@state.ma.us or Kathleen.Keohane@state.ma.us; and (3) Mr. Jeff Andrews, NH DES, Wastewater Engineering Bureau, P.O. Box 95, Concord, NH 03302-0095; e-mail: jandrews@des.state.nh.us. Additionally, the Fact Sheet, response to comments, RGP, and other information, such as the suggested notice of intent (NOI) form can be accessed on the EPA-NE Web site at: http://www.epa.gov/region1/npdes/mass.html#dgp and http://www.epa.gov/region1/npdes/newhampshire.html#dgp.

Dated: August 31, 2005.
Robert W. Varney,
Regional Administrator, Region 1.

[FR Doc. 05-17927 Filed 9-8-05; 8:45 am]

BILLING CODE 6560-50-P